DEPARTMENT OF THE INTERIOR

Fish and Wildlife Service

[FWS-R9-IA-2011-N257; FXGO16710900000P5-123-FF09A30000]

Endangered Species; Receipt of Applications for Permit; Correction

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities. We also invite comment on a previously published application that has been corrected.

DATES: We must receive comments or requests for documents on or before January 9, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government” and “the President's Memorandum for the Heads of Executive Departments and Agencies of January 21, 2009—Transparency and Open Government” (74 FR 4685; January 26, 2009), which call on all Federal agencies to promote openness and transparency in Government by disclosing information to the public, we invite public comment before final action on these permit applications before final action is taken.

III. Permit Applications

A. Endangered Species

Applicant: Mountain Gorilla Veterinary Project, Inc., Baltimore, MD; PRT-55564A

The applicant requests a permit to re-export biological samples from Eastern lowland gorillas (Gorilla berengei), for the purpose of enhancement of the survival of the species.

Applicant: U.S. Geological Survey, National Wildlife Health Center, Madison, WI; PRT-048370

The applicant requests renewal of a permit to import biological samples from all species of wild, captive-bred, and/or captive-held specimens for the purpose of enhancement of the survival of the species. This notification covers activities to be conducted by the applicant over a 5-year period.

Applicant: Ricardo Longoria, Laredo TX; PRT-192404

The applicant requests renewal and amendment of their captive-bred wildlife registration under 50 CFR 17.21(g) for barasingha (Rucervus duvaucelii), Eld's deer (Rucervus eldii) and Arabian oryx (Oryx leucoryx), to enhance their propagation or survival. This notification covers activities to be conducted by the applicant over a 5-year period.

Applicant: Virginia Zoological Park, Norfolk, VA; PRT-676511

The applicant requests amendment of their captive-bred wildlife registration under 50 CFR 17.21(g) to include the family Equidae to enhance their propagation or survival. This notification covers activities to be conducted by the applicant over a 5-year period.

Applicant: Busch Gardens, Tampa, FL; PRT-692283

The applicant requests amendment of their captive-bred wildlife registration under 50 CFR 17.21(g) to include the familys Hominidae and Rhinocerotidae and the species Asian elephant (Elephas maximus), to enhance their propagation or survival. This notification covers activities to be conducted by the applicant over a 5-year period.

Applicant: New England Aquarium Corp., Boston, MA; PRT-59781A

The applicant requests a captive-bred wildlife registration under 50 CFR 17.21(g) for jackass penguin (Spheniscus demersus) to enhance their propagation or survival. This notification covers activities to be conducted by the applicant over a 5-year period.

Applicant: Phoenix Herpetological Society, Scottsdale, AZ; PRT-19818A

The applicant requests amendment of their captive-bred wildlife registration under 50 CFR 17.21(g) to include the Aruba island rattlesnake (Crotalus durissus unicolor), to enhance their propagation or survival. This notification covers activities to be conducted by the applicant over a 5-year period.

Applicant: Stephen Chan, El Cajon, CA; PRT-197162

The applicant requests renewal of their captive-bred wildlife registration under 50 CFR 17.21(g) for radiated tortoise (Astrochelys radiata) to enhance their propagation or survival. This notification covers activities to be conducted by the applicant over a 5-year period.

Applicant: Jeffrey Hunter, San Francisco, CA; PRT-091931

The applicant requests renewal of their captive-bred wildlife registration under 50 CFR 17.21(g) for radiated tortoise (Astrochelys radiata), to enhance their propagation or survival. This notification covers activities to be conducted by the applicant over a 5-year period.

Applicant: James Pfarr, Everett, WA; PRT-201582

The applicant requests a captive-bred wildlife registration under 50 CFR 17.21(g) for radiated tortoise (Astrochelys radiata) to enhance their propagation or survival. This notification covers activities to be conducted by the applicant over a 5-year period.

Applicant: Matson's Laboratory, Milltown, MT; PRT-096048

The applicant requests renewal and amendment of a permit to import samples such as teeth from wood bison (Bison bison athabascae) from government-managed herds such as the Mackenzie Sanctuary herd and the Nahanni population in Canada for the purpose of scientific research. This notification covers activities to be conducted by the applicant over a 5-year period.

Applicant: Zoological Society of San Diego, San Diego, CA; PRT-50819A

The applicant requests a permit to export and reimport nonliving museum specimens of endangered and threatened species previously accessioned into the applicant's collection for scientific research. This notification covers activities to be conducted by the applicant over a 5-year period.

Applicant: Duke Lemur Center, Durham, NC; PRT-56737A

The applicant requests a permit to import biological specimens collected from silky sifakas (Propithecus diadema candidus) in the wild in Madagascar for the purpose of scientific research.

Multiple Applicants

The following applicants each request a permit to import the sport-hunted trophy of one male bontebok (Damaliscus pygargus pygargus) culled from a captive herd maintained under the management program of the Republic of South Africa, for the purpose of enhancement of the survival of the species.

Applicant: Ronald Bain, New Haven, MO; PRT-59367A.

Applicant: James Moses, Houston, TX; PRT-59496A.

Applicant: Glen Hudson, Weston, FL; PRT-59085A.

Applicant: Paxton Motheral, Fort Worth, TX; PRT-58509A.

Applicant: Lloyd Douglas, Aledo, TX; PRT-59287A.

Applicant: Jill Holstead, Houston, TX; PRT-59495A.

Correction

On October 28, 2011, we published a Federal Register notice inviting the public to comment on several applications for permits to conduct certain activities with endangered species (76 FR 66954). We made an error by omitting one animal in Leonard Voyle's application (PRT-57362A), which starts in the first column on page 66955. The omission is for an additional male bontebok (Damaliscus pygargus pygargus), for a total of two animals, not one. All the other information we printed was correct. With this notice, we correct that error and reopen the comment period for PRT-57362A. The corrected entry for this application is as follows:

Applicant: Leonard Voyles, Richmond, TX; PRT-57362A

The applicant requests a permit to import the sport-hunted trophy of two male bontebok (Damaliscus pygargus pygargus), culled from a captive herd maintained under the management program of the Republic of South Africa, for the purpose of enhancement of the survival of the species.

Brenda Tapia,
Program Analyst/Data Administrator, Branch of Permits, Division of Management Authority.

[FR Doc. 2011-31590 Filed 12-8-11; 8:45 am]

BILLING CODE 4310-55-P